DEPARTMENT OF HOUSING AND URBAN DEVELOPMENT

[Docket No. FR-5383-N-12]

Notice of Proposed Information Collection for Public Comment for the Housing Choice Voucher Program; Application, Allowances for Tenant-Furnished Utilities, Inspections, Financial Reports, Request for Tenancy Approval, Housing Voucher, Portability Information, Housing Assistance Payments Contracts and Tenancy Addenda, Homeownership Obligations, Tenant Information for Owner, Voucher Transfers, Homeownership Contracts of Sale, Information for Additional Renewal Funding, and the Project-Based Voucher Program

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: August 30, 2010.

ADDRESSES: Interested persons are invited to submit comments regarding this proposal. Comments should refer to the proposal by name/or OMB Control number and should be sent to: Leroy McKinney, Jr., Departmental Reports Management Officer, QDAM, Department of Housing and Urban Development, 451 7th Street, SW., Room 4178, Washington, DC 20410-5000; telephone 202-402-5564, (this is not a toll-free number) or e-mail Mr. McKinney at Leroy.McKinneyJr@hud.gov. Persons with hearing or speech impairments may access this number through TTY by calling the toll-free Federal Information Relay Service at 800-877-8339. (Other than the HUD USER information line and TTY numbers, telephone numbers are not toll-free).

FOR FURTHER INFORMATION CONTACT: Dacia Rogers, Office of Policy, Programs and Legislative Initiatives, PIH, Department of Housing and Urban Development, 451 7th Street, SW., Room 4116, Washington, DC 20410; telephone 202-402-3374, (this is not a toll-free number).

SUPPLEMENTARY INFORMATION: The Department will submit the proposed information collection to OMB for review, as required by the Paperwork Reduction Act of 1995 (44 U.S.C. chapter 35, as amended).

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submissions of responses.

This Notice Also Lists the Following Information

Title of Proposal: Housing Choice Voucher (HCV) Program: Application, Allowances for Tenant-Furnished Utilities, Inspections, Financial Reports, Request for Tenancy Approval, Housing Voucher, Portability Information, Housing Assistance Payments (HAP) Contracts, Tenancy Addendum, Homeownership Obligations, Tenant Information for Owner, Voucher Transfers, Homeownership Contracts of Sale, Information Requirements for Additional Renewal Funding and the Project-Based Voucher program.

OMB Control Number: 2577-0169.

Description of the Need for the Information and Proposed Use: Public Housing Agencies (PHA) will prepare an application for funding which specifies the number of units requested, as well as the PHA's objectives and plans for administering the HCV program. The application is reviewed by the HUD Field Office and ranked according to the PHA's administrative capability, the need for housing assistance, and other factors specified in the Notice of Funding Availability (NOFA). The PHAs must establish a utility allowance schedule for all utilities and other services. Units must be inspected using HUD prescribed forms to determine if the units meet the housing quality standards (HQS) of the HCV program. PHAs are also required to maintain financial reports in accordance with accepted accounting standards. The PHA is required to submit one financial document into an internet-based Voucher Management System four times a year. After the family is issued a HCV to search for a unit, the family must complete and submit to the PHA a Request for Tenancy Approval when it finds a unit which is suitable for its needs. Initial PHAs will use a standardized form to submit portability information to the receiving PHA who will also use the form for monthly portability billing. PHAs and Owners will enter into HAP Contacts each providing information on rents, payments, certifications, notifications, and Owner agreement in a form acceptable to the PHA. A tenancy addendum is included in the HAP contract as well as incorporated in the lease between the owner and the family. Families that participate in the Homeownership program will execute a statement regarding their responsibilities and execute contracts of sale including an additional contract of sale for new construction units. PHAs that wish to voluntarily transfer their HCV programs will notify HUD for approval and, once approved, all affected families and owners of the divested PHA. PHAs participating in the Project-Based Voucher program will enter into Agreements with developing owners, HAP contacts with the existing and New Construction/Substantial Rehabilitation owners, Statement of Family Responsibility with the family and a lease Addendum will be provided for execution between the family and the owner.

Agency form numbers: HUD-52515, HUD-52667, HUD-52580, HUD-52580-A, HUD-52681, HUD-52681-B, HUD-52672, HUD-52517, HUD-52646, HUD-52665, HUD-52641, HUD-52641-A, HUD 52642, HUD 52642-A, HUD 52649, HUD 52531A, 52531B, HUD 52530A, HUD 52530B, HUD 52530C, HUD 52578B.

Members of the Affected Public: State and Local Governments, businesses or other for-profits.

Estimation of the Total Number of Hours Needed to Prepare the Information Collection including the Number of Respondents, Frequency of response, and hours of response: The Number of respondents (2450 PHAs + 245,000 families + 245,000 tenant-based owners) = 492,450 total respondents. Hours per response varies for each form varies from annually, quarterly and on-occasion. Total annual burden hours 1,238,448.

Status of the Proposed Information Collection: Extension of a currently approved collection.

Authority: Section 3506 of the Paperwork Reduction Act of 1995, 44 U.S.C. Chapter 35, as amended.

Dated: June 24, 2010.
Merrie Nichols-Dixon,
Acting Deputy Assistant Secretary for Policy, Programs, and Legislative Initiatives.

[FR Doc. 2010-15874 Filed 6-29-10; 8:45 am]

BILLING CODE 4210-67-P